ENVIRONMENTAL PROTECTION AGENCY

[FRL-6584-6]

Agency Information Collection Activities: Submission for OMB Review; Comment Request, New Source Performance Standards (NSPS) for Electric Arc Furnaces and Argon-Oxygen Decarburization Vessels

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NSPS for Steel Plants: Electric Arc Furnaces and Argon Oxygen Decarburization Vessels OMB No. 2060-0038 and EPA ICR No. 1060.10; expiration date is May 31, 2000. The ICR describes the nature of the information collection and its expected burden and cost; where appropriate, it includes the actual data collection instrument.

DATES: Comments must be submitted on or before May 25, 2000.

FOR FURTHER INFORMATION CONTACT: For a copy of the ICR contact Sandy Farmer at EPA by phone at (202) 260-2740, by E-Mail at Farmer.Sandy@epamail.epa.gov or download off the Internet at http://www.epa.gov/icr and refer to EPA ICR No. 1060.10. For technical questions about the ICR, please contact: Maria T. Malave, 202-564-7027.

Title: New Source Performance Standards (NSPS) for Electric Arc Furnaces and Argon-Oxygen Decarburization Vessels; OMB No. 2060-0038; Agency No. 1060.10; expiration date is May 31, 2000. This is a request for a revision of a currently approved collection.

Abstract: Subpart AAa applies to electric arc furnaces, AOD vessels, and dust handling systems at steel plants that produce carbon, alloy, or specialty steels: and commenced construction, modification, or reconstruction after August 17, 1983. This information is being collected to assure compliance with 40 CFR part 60, subparts AA and AAa.

Subparts AA and AAa require: (1) Monitoring and recordkeeping of operations data and opacity levels; (2) semiannual reports of excess emissions and unacceptable; and (3) notifications of procedures to be followed and CEMs performance during performance tests. Owners or operators are also required to maintain records of the occurrence and duration of any startup, shutdown, or malfunction in the operation of an affected facility, or any period during which the monitoring system is inoperative.

All reports are sent to the delegated State or local authority. Notifications are used to inform the Agency or delegated authority when a source becomes subject to the standard. The reviewing authority may then inspect the source to check if the pollution control devices are properly installed and operated.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on January 21, 2000; no comments were received.

Burden Statement: The annual public reporting and recordkeeping burden for this collection of information is estimated to average 266 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and disclose the information.

Respondents/Affected Entities: Steel Plants.

Estimated Number of Respondents: 90.

Frequency of Response: semiannual.

Estimated Total Annual Hour Burden: 48,413 hours.

Estimated Total Annualized Capital and O&M Cost Burden: $94,350.

Send comments on the Agency's need for this information, the accuracy of the provided burden estimates, and any suggested methods for minimizing respondent burden, including through the use of automated collection techniques to the following addresses. Please refer to OMB No. 2060-0038 and EPA ICR No. 1060.10 in any correspondence.

Ms. Sandy Farmer, U.S. Environmental Protection Agency, Office of Environmental Information, Collection Strategies Division (2822), 1200 Pennsylvania Ave., NW, Washington, DC 20460; and

Office of Information and Regulatory Affairs, Office of Management and Budget, Attention: Desk Officer for EPA, 725 17th Street, NW, Washington, DC 20503.

Dated: April 17, 2000.
Oscar Morales,
Director, Collection Strategies Division.

[FR Doc. 00-10283 Filed 4-24-00; 8:45 am]

BILLING CODE 6560-50-P